DEPARTMENT OF COMMERCE

International Trade Administration

[A-570-001]

Potassium Permanganate From the People's Republic of China: Notice of Final Results of Antidumping Duty Administrative Review

AGENCY: Import Administration, International Trade Administration, Department of Commerce.

SUMMARY: On February 27, 2001, the Department of Commerce (“the Department”) published the preliminary results of administrative review of the antidumping duty order on potassium permanganate from the People's Republic of China (“PRC”). This review covers an exporter, Guizhou Provincial Chemicals Import & Export Corporation (“Guizhou”), and its supplier of potassium permanganate, the Zunyi Chemical Factory (“Zunyi”). The period of review (“POR”) is January 1, 1999 through December 31, 1999.

The final weighted-average dumping margin for the reviewed exporter is listed below in the section entitled “Final Results of Review.” The final margin differs from that published in the preliminary results due to changes that we made since the preliminary results. For details regarding these changes, see the section of the notice entitled “Changes Since the Preliminary Results.”

EFFECTIVE DATE: September 7, 2001.

FOR FURTHER INFORMATION CONTACT: Paul Stolz or Howard Smith, AD/CVD Enforcement Group II, Office IV, Import Administration, International Trade Administration, U.S. Department of Commerce, 14th Street and Constitution Avenue, NW., Washington, DC 20230; telephone (202) 482-4474 or (202) 482-5193 respectively.

SUPPLEMENTARY INFORMATION:

Applicable Statute

Unless otherwise indicated, all citations to the statute are references to the provisions effective January 1, 1995, the effective date of the amendments made to the Tariff Act of 1930 (“the Act”) by the Uruguay Rounds Agreements Act (“URAA”). In addition, unless otherwise indicated, all citations to the Department's regulations are to the current regulations at 19 CFR part 351 (2001).

Background

Since the publication of the preliminary results, the following events have occurred. On March 19, 2001 the respondents and the petitioner (Carus Chemical Company (“Carus”)) submitted publicly available information and comments regarding factor valuation. On March 29, 2001 petitioner filed rebuttal comments regarding the respondents' March 19, 2001 factor value submission and objected to respondents' submission because it lacked certificates of accuracy. At the Department's request the respondents submitted an appropriate certificate on April 5, 2001. See the memorandum to the file from the case analyst dated April 16, 2001. In response to the Department's invitation to comment on the preliminary results of review, the petitioner and the respondents filed case briefs on March 30, 2001 and rebuttal briefs on April 5, 2001. The Department held a public hearing regarding this review on April 13, 2001.

The Department has conducted this administrative review in accordance with section 751 of the Act.

Scope of the Review

Imports covered by this review are shipments of potassium permanganate, an inorganic chemical produced in free-flowing, technical, and pharmaceutical grades. During the review period, potassium permanganate was classifiable under item 2841.60.0010 of the Harmonized Tariff Schedule (“HTS”). The HTS item number is provided for convenience and Customs purposes. The written description remains dispositive.

Analysis of Comments Received

All issues raised in the case and rebuttal briefs by parties to this administrative review are addressed in the “Issues and Decision Memorandum” (“Decision Memorandum”) from Bernard T. Carreau, Deputy Assistant Secretary, Important Administration, to Faryar Shirzad, Assistant Secretary for Import Administration, dated concurrently with this notice, which is hereby adopted by this notice. A list of the issues which parties have raised and to which we have responded, all of which are in the Decision Memorandum, is attached to this notice as an Appendix. Parties can find a complete discussion of all issues raised in this review and the corresponding recommendations in this public memorandum which is on file in the Central Record Unit, room B-099 of the main Department of Commerce building. In addition, a complete version of the Decision Memorandum can be accessed directly on the Web at www.ia.ita.doc.gov. The paper copy and electronic version of the Decision Memorandum are identical in content.

Changes Since the Preliminary Results of Review

Based on our analysis of the petitioner's and the respondents' comments, we have made certain changes to the factors of production and surrogate values used to calculate the margin in the preliminary results. The changes and corrections are discussed in the relevant sections of the Decision Memorandum. In addition, further details regarding the changes and corrections can be found in the surrogate value memorandum (see Surrogate Values Used for the Final Results of the 1999 Administrative Review of Potassium Permanganate From the People's Republic of China), which is on file in room B-099 of the main Department of Commerce building.

Final Results of Review

We determine that the following percentage weighted-average margins exist for the period January 1, 1999 through December 31, 1999:

Exporter/manufacturer | Margin (percent)
Guizhou Provincial Chemicals Import & Export Corporation | 107.32

The Department shall determine, and Customs shall assess, antidumping duties on all appropriate entries. In accordance with 19 CFR 351.212(b), we have calculated exporter/importer-specific assessment rates. We divided the total dumping margins for sales to a specific importer by the total quantity of subject merchandise sold to the importer in order to calculate a per-unit dollar assessment. The per-unit dollar amount will be assessed uniformly against each unit of subject merchandise that the importer entered during the POR.

Cash Deposit Requirements

The following deposit requirements will be effective upon publication of this notice of final results of administrative review for all shipments of potassium permanganate from the PRC entered, or withdrawn from warehouse, for consumption on or after the date of publication, as provided by section 751(a)(1) of the Act: (1) The cash deposit rates for the reviewed company will be the rate shown above; (2) for previously reviewed or investigated companies not listed above that have separate rates, the cash deposit rate will continue to be the company-specific rate published for the most recent period; (3) the cash deposit rate for all other PRC exporters will continue to be 128.94 percent; and (4) the cash-deposit rate for non-PRC exporters will be the rate applicable to the PRC supplier of that exporter.

These deposit requirements shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as a reminder to parties subject to administrative protective orders (“APO”) of their responsibility concerning the disposition of proprietary information disclosed under APO in accordance with 19 CFR 351.305. Timely notification of return/destruction of APO materials or conversion to judicial protective order is hereby requested. Failure to comply with the regulations and the terms of an APO is a sanctionable violation.

We are issuing and publishing this determination and notice in accordance with sections section 751(a)(1) and 777(i)(1) of the Act.

Dated: August 27, 2001.
Faryar Shirzad,
Assistant Secretary for Import Administration.

Appendix—Issues in Decision Memorandum

Comments and Responses

1. Allegations That the Sale is not Bona Fide and There was Fraud Upon the Department's Proceedings

2. Allegation of Failure to Properly Address the Characteristics of the Sale

3. Allegation of Failure to Take into Account the Importer's Resale Price

4. Allegation of Failure to Properly Weigh Evidence Regarding the Shipper's Policy on LCL Shipments

5. Allegation of Failure to Address Fraud on the Department's Proceedings

6. Allegation of Failure to Properly Weigh Evidence Regarding Knowledge of the Hazardous Nature of the Merchandise

7. Allegation of Failure to Take into Account Evidence Regarding the Parties Responsible for the Merchandise Descriptions on House Bills of Lading (HBLs)

8. Allegation of Failure to Properly Weigh Evidence Regarding the Fraudulent HBL

9. Allegation That the Department Improperly Placed the Burden of Proof on Petitioner

10. Allegation of Failure to Determine Whether the Shipment was Legal

11. Allegation That the Department's Approach in the Preliminary Results Undermines Trade Laws

12. Respondents' Failure to Provide the Required Certification with their Factor Value Submission

13. Use of Third-Party Price Quotes Dated after the Preliminary Results

14. Contemporaneity and Representativeness of Respondents' Price Quotes

15. Surrogate Value for Coal

16. Surrogate Value for Drums Used for Packing

17. Surrogate Value for Electricity

18. Surrogate Value for Manganese Dioxide

19. Surrogate Value for Potassium Hydroxide

20. Surrogate Value for Selling, General and Administrative Expenses (SG&A), Factory Overhead and Profit Ratios

21. Surrogate Value for Water

22. Inputs Used to Treat River Water: Lime, Alum, Salt, Electricity and Labor

23. Surrogate Value for Lime

24. Surrogate Value for Alum

25. Surrogate Value for Salt

[FR Doc. 01-22560 Filed 9-6-01; 8:45 am]

BILLING CODE 3510-DS-P